DEPARTMENT OF HOMELAND SECURITY

Coast Guard

33 CFR Part 165

[Docket Number USCG-2019-0794]

RIN 1625-AA00

Safety Zone, Saint Simons Sound, GA; Correction

AGENCY: Coast Guard, DHS.

ACTION: Temporary final rule; correction.

SUMMARY: The Coast Guard is correcting a temporary final rule that appeared in the Federal Register on September 30, 2019. The document issued an emergency temporary safety zone in response to the grounding/capsizing of the M/V GOLDEN RAY (31°07′39.66 North, 081°24′10.58 West, between Saint Simons Lighthouse and the north end of Jekyll Island, in the vicinity of green buoy #19). The rule was made enforceable from September 19, 2019, until no longer deemed necessary by the Captain of the Port Savannah. However, in the instruction and section heading of regulatory text, the docket number appeared instead of the CFR section number.

DATES: This correction is effective on October 10, 2019.

FOR FURTHER INFORMATION CONTACT: If you have questions on this rule, call or email MST1 Rachel Crowe, Marine Safety Unit Savannah Office of Waterways Management, Coast Guard; Waterways Management, Coast Guard; telephone 912-652-4353, extension 243, or email Rachel.M.Crowe@uscg.mil.

SUPPLEMENTARY INFORMATION:

Correction

In FR Rule Doc. 2019-20781, appearing on page 51413 in the Federal Register of Monday, September 30, 2019, the following corrections are made:

On page 51413, in the first column in Instruction No. 2, “§ 2019-0974” is corrected to read “§ 165.T07-0794”.

On page 51413, in the first column, the section heading “§ 2019-0794 Safety Zone; M/V GOLDEN RAY; Saint Simons Sound, GA.” is corrected to read, “§ 165.T07-0794 Safety Zone; M/V GOLDEN RAY; Saint Simons Sound, GA.”

Dated: October 3, 2019.
M.W. Mumbach,
Chief, Office of Regulations and Administrative Law, U.S. Coast Guard.

[FR Doc. 2019-21902 Filed 10-9-19; 8:45 am]

BILLING CODE 9110-04-P